DEPARTMENT OF TRANSPORTATION

Pipeline and Hazardous Materials Safety Administration

[Docket RSPA-98-4957]

Submission for Office of Management and Budget Approval and Public Comment Request

AGENCY: Pipeline and Hazardous Materials Administration (PHMSA), Department of Transportation.

ACTION: Request for public comments and Office of Management and Budget (OMB) approval of an existing information collection.

SUMMARY: This notice seeks comments from the public regarding the need for PHMSA to collect paperwork information from liquefied natural gas operators to ensure that these operators are properly operating and maintaining their facilities. This notice is published (pursuant to the Paperwork Reduction Act of 1995) to measure the need for the proposed paperwork collection, to find ways to minimize the burden on operators, to find ways to enhance the quality of information collected, and to verify the accuracy of the agency's estimate of the burden (measured in work hours) on pipeline operators. This is a request to continue collection of information already approved under OMB # 2137-0048, which is scheduled to expire on April 30, 2005, and to renew that approval.

DATES: Comments on this notice must be received by May 16, 2005 to assure consideration.

ADDRESSES: You may submit written comments to the docket by any of the following methods:

• Mail: Dockets Facility, U.S. Department of Transportation, Room PL-401, 400 Seventh Street, SW., 20590-0001. Anyone wanting confirmation of mailed comments must include a self-addressed stamped postcard.

• Hand delivery or courier: Room PL-401, 400 Seventh Street, SW., Washington, DC. The Dockets Facility is open from 10 a.m. to 5 p.m., Monday through Friday, except Federal holidays.

• Web site: Go to http://dms.dot.gov, click on “Comments/Submissions” and follow instructions at the site.

All written comments should identify the docket number and notice number stated in the heading of this notice.

Docket access. For copies of this notice or other material in the docket, you may contact the Dockets Facility by phone (202-366-9329) or visit the facility at the above street address. For Web access to the dockets to read and download filed material, go to http://dms.dot.gov/search. Then type in the last four digits of the docket number shown in the heading of this notice, and click on “Search.”

Anyone can search the electronic form of all comments filed in any of our dockets by the name of the individual submitting the comment (or signing the comment, if submitted for an association, business, labor union, etc.). You may review DOT's complete Privacy Act Statement in the April 11, 2000 issue of the Federal Register (65 FR 19477) or go to http://dms.dot.gov.

Interested persons are invited to send comments regarding the burden estimate or any other aspect of this collection of information, including any of the following: (1) The necessity and utility of the proposed information collection for the proper performance of the agency's functions; (2) the accuracy of the estimated burden; (3) ways to enhance the quality, utility, and clarity of the information to be collected; and (4) the use of automated collection techniques or other forms of information technology to minimize the information collection burden.

FOR FURTHER INFORMATION CONTACT: Florence Hamn, Office of Pipeline Safety, PHMSA, Department of Transportation, 400 Seventh Street, SW., Washington, DC 20590, (202) 366-3015 or by e-mail at Florence.Hamn@dot.gov

SUPPLEMENTARY INFORMATION: 49 U.S.C. 60103 titled “Standards for Liquefied Natural Gas Pipeline Facilities” delegates the responsibility for ensuring safe operation of LNG facilities to the Secretary of Transportation. The regulations implementing this section of the statute are found in 49 CFR Part 193 “Liquefied Natural Gas Facilities:

Federal Safety Standards.” These regulations include recordkeeping requirements that allow Federal and State inspectors to ensure that these facilities are operated and maintained in a safe manner.

As used in this notice, the terms “information collection” and “paperwork collection” are synonymous, and include all work related to preparing and disseminating information related to this recordkeeping requirement including completing paperwork, gathering information and conducting telephone calls.

Type of Information Request: Renewal of an existing information collection.

Title of Information Collection: Recordkeeping for Liquefied Natural Gas (LNG) Facilities.

OMB Approval Number: 2137-0048.

Frequency: On occasion.

Use: This collection is used by PHMSA to ensure that LNG facilities are being operated in a safe manner.

Estimated Number of Respondents: 101.

Respondents: LNG facility operators.

Total Annual Hours Requested: 12,120 hours.

Issued in Washington, DC, on March 7, 2005.
Theodore L. Willke,
Deputy Associate Administrator for Pipeline Safety.

[FR Doc. 05-5194 Filed 3-15-05; 8:45 am]

BILLING CODE 4910-60-P